ENVIRONMENTAL PROTECTION AGENCY

40 CFR Part 52

[EPA-R10-OAR-2024-0433: FRL-12248-01-R10]

Air Plan Approval; Washington; Spokane Regional Clean Air Agency, General Air Quality Regulations

AGENCY: Environmental Protection Agency (EPA).

ACTION: Proposed rule.

SUMMARY: The Environmental Protection Agency (EPA) is proposing to approve revisions to the Washington State Implementation Plan (SIP) that were submitted by the Department of Ecology (Ecology) in coordination with the Spokane Regional Clean Air Agency (SRCAA). In 2021, the EPA approved a comprehensive update to the SRCAA general air quality regulations in the SIP, which include new source review permitting requirements as well as other general requirements for sources regulated under SRCAA's jurisdiction. In this action, the EPA proposes to approve additional updates to the SRCAA general air quality regulations promulgated since our comprehensive approval in 2021.

DATES: Comments must be received on or before December 16, 2024.

ADDRESSES: Submit your comments, identified by Docket ID No. EPA-R10-OAR-2024-0433 at https://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

FOR FURTHER INFORMATION CONTACT: Jeff Hunt, EPA Region 10, 1200 Sixth Avenue—Suite 155, Seattle, WA 98101, at (206) 553-0256, or hunt.jeff@epa.gov.

SUPPLEMENTARY INFORMATION:

Table of Contents

I. Background for Proposed Action

A. Recodification of the Washington Clean Air Act and Other Miscellaneous Revisions

B. Revision to the Source Categories Subject to Registration

C. Revision to Minor New Source Review Permitting Applicability Thresholds

D. Use of Woodstoves During Emergency Power Outages

II. The EPA's Proposed Action

A. Proposed Revisions to the Incorporation by Reference Section of the SIP

B. Approved But Not Incorporated by Reference Regulations

III. Incorporation by Reference

IV. Statutory and Executive Order Reviews

I. Background for Proposed Action

On May 10, 2021, the EPA approved a comprehensive update of the general air quality regulations, codified in SRCAA Regulation I, into the SIP (86 FR 24718). Under the Washington Clean Air Act, local clean air agencies may adopt equally stringent or more stringent requirements to apply in lieu of Ecology's Statewide general air quality regulations for sources regulated under the local agency's jurisdiction, if they so choose.¹ SRCAA's jurisdiction covers the geographic area of Spokane County, with certain exceptions. By statute, SRCAA does not have authority for sources under the jurisdiction of the Energy Facility Site Evaluation Council (EFSEC). See Revised Code of Washington Chapter 80.50. Under the applicability provisions of Washington Administrative Code (WAC) 173-405-012, 173-410-012, and 173-415-012, SRCAA does not have jurisdiction for kraft pulp mills, sulfite pulping mills, and primary aluminum plants. For these sources, Ecology retains Statewide, direct jurisdiction. Ecology and EFSEC also retain Statewide, direct jurisdiction for issuing permits under the Prevention of Significant Deterioration (PSD) program for major stationary sources in attainment areas. Lastly, SRCAA does not have jurisdiction on Indian reservations and any other area where the EPA or an Indian tribe has demonstrated that a tribe has jurisdiction. The regulations approved and incorporated by reference into the SIP for SRCAA's specific jurisdiction can be found at 40 CFR 52.2470(c), Table 9—Additional Regulations Approved for the Spokane Regional Clean Air Agency (SRCAA) Jurisdiction. The version of Regulation I approved in the SIP includes updates promulgated by SRCAA effective as of September 1, 2020. SRCAA subsequently promulgated an update to Regulation I effective July 15, 2023 (Washington State Register 23-12-060 included in the docket for this action).

¹ See our February 24, 2021 proposed rulemaking (86 FR 11204).

A. Recodification of the Washington Clean Air Act and Other Miscellaneous Revisions

Effective June 11, 2020, the State legislature recodified the Washington Clean Air Act from Revised Code of Washington (RCW) 70.94 to RCW 70A.15. Local air agencies were encouraged to update affected rules to reflect new statutory references by July 1, 2025. This change affected SRCAA sections 1.01, 1.04, 2.01, 2.03, 2.04, 2.05, 2.08, 2.11, 2.12, 4.04, 5.02, 5.04, 5.05, 5.07, 5.08, 5.10, 5.13, 6.04, 8.03, 8.07, 8.08, 8.09, and 8.10, which were submitted for reapproval in the SIP. In addition to the recodification, SRCAA made other generally minor typographical and formatting changes. Comprehensive redline/strikeout versions of each updated section of Regulation I are included in the docket for this action, as well as the EPA's analysis of the revisions proposed for approval in this action. Therefore, the relatively minor citation updates, formatting changes, and typographical revisions are not restated here.

The most substantive proposed change, other than the changes described in sections I.B. and I.C. of this preamble, relates to Regulation I, section 2.08 Falsification of Statements or Documents, and Treatment of Documents. Previously, as part of the 2021 comprehensive update, SRCAA submitted only subsections (E) and (F) because they had direct corollaries in the WAC. In this update, SRCAA submitted, and the EPA is proposing to approve subsections (A) through (D) which contain additional provisions regarding the treatment of documents, the prevention of falsifying documents, and the prohibition against making false or misleading statements to an authorized representative of the SRCAA Board of Directors.

B. Revision to the Source Categories Subject to Registration

Effective March 9, 2023, as part of Washington State Register 23-05-21 included in the docket for this action, SRCAA removed marijuana producers and processors from the list of source categories subject to regulation under SRCAA section 4.04. We note that in our prior approval of SRCAA Regulation I, the EPA did not include the marijuana provisions in subsections (A)(3)(u), (A)(3)(v), and (A)(5)(e)(9) formerly contained in SRCAA section 4.04, because provisions related to odor and nuisance are outside the scope of the SIP (86 FR 24718, May 10, 2021). However, removal of these provisions affected the codification of citations for other provisions approved in the SIP. Therefore, the EPA is proposing to approve the updated version of section 4.04, including the minor typographical and statutory citation revisions discussed above in section I.A. of this preamble, to reflect the recodification of citations for the remaining SIP-approved provisions in section 4.04. SRCAA also made a minor revision to section 5.02 New Source Review Applicability and When Required to reflect the removal of marijuana producers and processors in subsection (I)(1)(b). While this provision is also outside the scope of the SIP, removal of subsection (I)(1)(b) resulted in recodification of the former subsection (I)(1)(c), discussed below in section I.C. of this preamble, to (I)(1)(b).

C. Revision to Minor New Source Review Permitting Applicability Thresholds

As discussed in the proposed rulemaking for our 2021 update of Regulation I in the SIP, SRCAA uses a registration-based, source category approach in section 4.04 Stationary Sources and Source Categories Subject to Registration for determining minor new source review (NSR) applicability under Regulation I, Article V New Source Review for Stationary Sources and Portable Sources (see 86 FR 11204, February 24, 2021, at page 11206). Under subsection 5.02(I), not all source categories subject to registration require NSR permits. In our 2021 update, SRCAA did not submit, and the EPA did not approve, subsection 5.02(I) Stationary Sources Exempt from Article V because the source categories at the time related primarily to the regulation of odor and air toxics which are not criteria pollutants and which are outside the scope of the SIP.

As part of SRCAA's update to Regulation I, SRCAA added a new provision (c) under subsection 5.02(I)(1) related to surface coating, which could impact criteria pollutants or precursors to criteria pollutants. Subsection 5.02(I)(1)(c) continues to require surface coating operations with the potential to emit (PTE) emissions above 100 pounds per year to register as a source category listed under section 4.04. However, for sources that only use non-spray application methods (e.g., roller coat, brush coat, flow coat, or pre-packaged aerosol can) a minor NSR permit is not required unless PTE emissions are above 1,000 pounds per year for any single criteria pollutant or its precursors under subsection 4.04(A)(5)(a) or a combination of air contaminants under subsections 4.04(A)(5)(c) and (d).² As discussed in the analysis of section 5.02 included in the docket for this action, SRCAA explained that for a non-spray operation there are few substantive permit requirements that could be put in place. For example, with roll or dip coating there is no overspray and therefore, no need for a filtered booth to control particulate matter emissions. For larger operations above the thresholds in subsections 4.04(A)(5)(a), (c), and (d), SRCAA explained that there could be some technology or air quality requirements that should be reviewed in the context of a minor NSR permit. Similarly, subsection 5.02(I)(1)(b), not previously submitted as part of the SIP, contains a minor NSR permitting exemption for small motor vehicle or motor vehicle component surface coating operations with PTE below 100 pounds per year. To the extent that these small-scale operations may have criteria pollutant impacts, SRCAA explained that if there are overspray emissions, or other impacts outside the scope of the SIP such as odors or toxic air pollutant emissions above the small quantity emission rates listed in Chapter 173-460 WAC, the source will no longer qualify for the exemption and must obtain a minor NSR permit for a paint booth.

² Subsection 4.04(A)(5)(b) relates solely to thresholds for toxic air pollutants regulated under Chapter 173-460 Washington Administrative Code which is not part of the SIP. See 88 FR 24718 (May 10, 2021).

We are proposing to determine that the minor NSR applicability thresholds in subsections 5.02(I)(1)(b) and (c) are reasonable because emissions at these low thresholds are highly unlikely to impact continued attainment and maintenance of the national ambient air quality standards (NAAQS) for criteria pollutants in the Spokane area.³ Therefore, we are proposing to approve the revised subsection 5.02(I) into the SIP as it relates to the regulation of criteria pollutants under Clean Air Act section 110. We note that SRCAA did not submit, and the EPA is not proposing to approve, subsection 5.02(I)(1)(a) because this provision regulates nuisance and odor which are outside the scope of the SIP. We are also not proposing to approve the application of any provision in 5.02(I)(1), or elsewhere in Regulation I, to toxic air pollutants regulated under Chapter 173-460 WAC, because regulation of toxic air pollutants is also outside the scope of the SIP.

³ The EPA designated the Spokane area as nonattainment for the 1971 carbon monoxide NAAQS and the 1987 particulate matter (PM10) NAAQS. The EPA redesignated the Spokane area to “attainment” for both pollutants in August 2005 and has designated the Spokane area as “unclassifiable/attainment” for all subsequent NAAQS revisions.

D. Use of Woodstoves During Emergency Power Outages

On September 28, 2015, the EPA approved Regulation I, Article VIII Solid Fuel Burning Device Standards (80 FR 58216). There were no changes to Article VIII as part of our 2021 update to the SIP because these provisions remained unchanged since last adopted in 2014. However, in the rule update, focused primarily on the recodification of the Washington Clean Air Act, SRCAA also incorporated another recent revision to the Washington Clean Air Act. Effective June 9, 2016, the Washington State Legislature voted unanimously to approve House Bill 2785 included in the docket for this action. This bill modified the Washington Clean Air Act, among other changes, to clarify that “Nothing in this section restricts a person from burning wood in a solid fuel burning device, regardless of whether a burn ban has been called, if there is an emergency power outage.” SRCAA modified Regulation I, section 8.08 Exemptions, which the EPA previously approved in the SIP, to reflect this statutory change in subsection 8.08(A)(4) and requested removal of subsection 8.08(A)(4) from the SIP. We are proposing to remove subsection 8.08(A)(4) from the SIP because removal of this exemption from otherwise-applicable SIP requirements will strengthen the SIP. Therefore, we believe this change meets the requirements of CAA section 110(l). SRCAA also added a definition for “Emergency Power Outage” in subsection 8.03(A)(6), which SRCAA did not submit as part of the SIP.

The remainder of the changes to Article VIII are syntax, formatting, and citation updates. These changes, along with the EPA's analyses of the Article VIII sections submitted for approval, are included in the docket for this action and are not restated here. With the exceptions noted above, we are proposing to approve the revisions to Article VIII consistent with the same exclusions as our 2015 approval.

II. The EPA's Proposed Action

A. Proposed Revisions to the Incorporation by Reference Section of the SIP

The EPA is proposing to approve and incorporate by reference into the Washington SIP at 40 CFR 52.2470(c)—Table 9—Additional Regulations Approved for the Spokane Regional Clean Air Agency (SRCAA) Jurisdiction, the updated SRCAA regulations listed in the following table for sources within SRCAA's jurisdiction. Approval of the revised version of SRCAA Regulation I section 8.08 would have the effect of removing subsection 8.08(A)(4), as described in section I.C. of this preamble. Unless otherwise noted in section I of this preamble, the EPA is approving revisions to the regulations in the following table consistent with the same conditions and exceptions as our prior 2015 and 2021 approvals.

Updated Spokane Regional Clean Air Agency Regulations
State/local citation | Title/subject | State/local effective date | Explanation
Spokane Regional Clean Air Agency Regulation I
1.01 | Policy | 7/15/23 | Subsections (A) and (B) replace WAC 173-400-010.
1.04 | General Definitions | 7/15/23 | Except subsections (17), (41), (52), (60), (74), (101), (112), (119), and (122). Section 1.04 replaces WAC 173-400-030 except the following WAC 173-400-030 definitions adopted by reference in subsection 2.14(A)(1): Adverse Impact on Visibility; Capacity Factor; Class I Area; Dispersion Technique; Emission Threshold; Excess Stack Height; Existing Stationary Facility; Federal Class I Area; Federal Land Manager; Fossil Fuel-fired Steam Generator; General Process Unit; Greenhouse Gases; Industrial Furnace; Mandatory Class I Federal Area; Natural Conditions; Projected Width; Reasonably Attributable; Sulfuric Acid Plant; and Wood Waste.
2.08 | Falsification of Statements or Documents, and Treatment of Documents | 7/15/23 | Subsection (E) replaces WAC 173-400-105(6). Subsection (F) replaces WAC 173-400-105(8).
2.13 | Federal and State Regulation Reference Date | 7/15/23 | Subsection (A) replaces WAC 173-400-025.
4.04 | Stationary Sources and Source Categories Subject to Registration | 7/15/23 | Except subsection (A)(5)(b) or any other provision as it relates to the regulation of toxic air pollutants or odors.
5.02 | New Source Review—Applicability and when Required | 7/15/23 | Except subsections (C)(5), (I)(1)(a), or any other provision as it relates to the regulation of toxic air pollutants or odors. Section 5.02 replaces WAC 173-400-110. Subsection (F) replaces WAC 173-400-111(2).
5.04 | Information Required | 7/15/23 | Except subsection (A)(8). Collectively, sections 5.04, 5.06, 5.07, 5.10, 5.13, and 5.14 replace the permitting procedures in WAC 173-400-111.
5.05 | Public Involvement | 7/15/23 | Except subsection (C)(15). Section 5.05 replaces WAC 173-400-171.
5.07 | Processing NOC Applications for Stationary Sources | 7/15/23 | Except subsections (A)(1)(g) and (B). Collectively, sections 5.04, 5.06, 5.07, 5.10, 5.13, and 5.14 replace the permitting procedures in WAC 173-400-111, and subsection 5.07(A)(7) replaces WAC 173-400-110(2)(a).
5.08 | Portable Sources | 7/15/23 | Except subsection (A)(6). Section 5.08 replaces WAC 173-400-036.
5.10 | Changes to an Order of Approval or Permission to Operate | 7/15/23 | Collectively, sections 5.04, 5.06, 5.07, 5.10, 5.13, and 5.14 replace the permitting procedures in WAC 173-400-111.
5.13 | Order of Approval Construction Time Limits | 7/15/23 | Collectively, sections 5.04, 5.06, 5.07, 5.10, 5.13, and 5.14 replace the permitting procedures in WAC 173-400-111.
6.04 | Emission of Air Contaminant: Detriment to Person or Property | 7/15/23 | Subsections (A), (B), (C), and (H) only and excepting provisions in RCW 70A.15.4530 (incorporated by reference) that relate to odor. Subsection (C) replaces WAC 173-400-040(6).
8.01 | Purpose | 7/15/23
8.02 | Applicability | 7/15/23
8.03 | Definitions | 7/15/23 | Except subsection (A)(6).
8.04 | Emission Performance Standards | 7/15/23 | Except the incorporation by reference of WAC 173-433-130, 173-433-170, and 173-433-200.
8.05 | Opacity Standards | 7/15/23
8.06 | Prohibited Fuel Types | 7/15/23
8.07 | Curtailment | 7/15/23
8.08 | Exemptions | 7/15/23 | Except subsection (A)(4).
8.09 | Procedure to Geographically Limit Solid Fuel Burning Devices | 7/15/23
8.10 | Restrictions on Installation of Solid Fuel Burning Devices | 7/15/23

B. Approved But Not Incorporated by Reference Regulations

In addition to the regulations proposed for approval and incorporation by reference in section II.A. of this preamble, the EPA reviews and approves State and local clean air agency submissions to ensure they provide adequate enforcement authority and other general authority to implement and enforce the SIP. However, regulations describing such agency enforcement and other general authority are generally not incorporated by reference so as to avoid potential conflict with the EPA's independent authorities. Therefore, we are proposing to approve but not incorporate by reference revisions, effective July 15, 2023, to SRCAA sections 2.01, 2.03, 2.04, 2.05, 2.11, 2.12, and 8.11 in 40 CFR 52.2470(e), EPA Approved Nonregulatory Provisions and Quasi-Regulatory Measures.

III. Incorporation by Reference

In this document, the EPA is proposing to include in a final rule regulatory text that includes incorporation by reference. In accordance with requirements of 1 CFR 51.5, the EPA is proposing to incorporate by reference the updated regulations shown in the table in section II.A. and discussed in section I of this document. The EPA has made, and will continue to make, these documents generally available through https://www.regulations.gov and at the EPA Region 10 Office (please contact the person identified in the FOR FURTHER INFORMATION CONTACT section of this preamble for more information).

IV. Statutory and Executive Order Reviews

Under the Clean Air Act, the Administrator is required to approve a SIP submission that complies with the provisions of the Clean Air Act and applicable Federal regulations. 42 U.S.C. 7410(k); 40 CFR 52.02(a). Thus, in reviewing SIP submissions, the EPA's role is to approve State choices, provided that they meet the criteria of the Clean Air Act. Accordingly, this proposed action merely approves State law as meeting Federal requirements and does not impose additional requirements beyond those imposed by State law. For that reason, this proposed action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of section 12(d) of the National Technology Transfer and Advancement Act of 1995 (15 U.S.C. 272 note) because application of those requirements would be inconsistent with the Clean Air Act.

Executive Order 12898 (Federal Actions to Address Environmental Justice in Minority Populations and Low-Income Populations, 59 FR 7629, February 16, 1994) directs Federal agencies to identify and address “disproportionately high and adverse human health or environmental effects” of their actions on communities with environmental justice (EJ) concerns to the greatest extent practicable and permitted by law. The EPA defines EJ as “the fair treatment and meaningful involvement of all people regardless of race, color, national origin, or income with respect to the development, implementation, and enforcement of environmental laws, regulations, and policies.” The EPA further defines the term fair treatment to mean that “no group of people should bear a disproportionate burden of environmental harms and risks, including those resulting from the negative environmental consequences of industrial, governmental, and commercial operations or programs and policies.”

The air agency did not evaluate environmental justice considerations as part of its SIP submittal; the Clean Air Act and applicable implementing regulations neither prohibit nor require such an evaluation. The EPA did not perform an EJ analysis and did not consider EJ in this action. Due to the nature of this action, it is expected to have a neutral to positive impact on the air quality of the affected area. Consideration of EJ is not required as part of this action, and there is no information in the record inconsistent with the stated goal of Executive Order 12898 of achieving environmental justice for communities with EJ concerns.

In addition, this proposed action would not apply on any Indian reservation land or in any other area where the EPA or an Indian Tribe has demonstrated that a Tribe has jurisdiction. In those areas of Indian country, the rule does not have Tribal implications as specified by Executive Order 13175 (65 FR 67249, November 9, 2000).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: November 1, 2024.
Casey Sixkiller,
Regional Administrator, Region 10.

[FR Doc. 2024-26171 Filed 11-13-24; 8:45 am]

BILLING CODE 6560-50-P